DEPARTMENT OF ENERGY

Federal Energy Regulatory Commission

[Docket No. RP04-124-001]

East Tennessee Natural Gas Company; Notice of Compliance Filing

February 9, 2004.

Take notice that on February 4, 2004, East Tennessee Natural Gas Company (East Tennessee) tendered for filing as part of its FERC Gas Tariff, Second Revised Volume No. 1, Sub Sixth Revised Sheet No. 132, effective February 1, 2004.

East Tennessee states that the purpose of this filing is to comply with the Commission's Order issued in the captioned docket on January 29, 2004 (January 29 Order). East Tennessee states that it is making changes in Section 16.1 of its General Terms and Conditions, Invoicing and Payments, as required by Paragraphs 7 and 9 of the January 29 Order. East Tennessee states that it is providing its customers with (i) an opportunity to change the election of electronic invoicing or U.S. mail delivery method, (ii) e-mail notification of the posting of final electronic invoices, and (iii) an opportunity to designate an agent to receive electronic invoices and e-mail notifications.

East Tennessee states that copies of its filing have been served on all affected customers, interested state commissions, and all parties on the Commission's service list.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-281 Filed 2-13-04; 8:45 am]

BILLING CODE 6717-01-P